DEPARTMENT OF HEALTH AND HUMAN SERVICES

Centers for Disease Control and Prevention

[30DAY-68-00]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-7090. Send written comments to CDC, Desk Officer; Human Resources and Housing Branch, New Executive Office Building, Room 10235; Washington, DC 20503. Written comments should be received within 30 days of this notice.

Proposed Project

Hanford Community Health Project Survey—New—The Agency for Toxic Substances and Disease Registry (ATSDR) is mandated pursuant to the 1980 Comprehensive Environmental Response Compensation and Liability Act (CERCLA) and its 1986 Amendments, the Superfund Amendments and Re-authorization Act (SARA), to prevent or mitigate adverse human health effects and diminished quality of life resulting from the exposure to hazardous substances into the environment. These activities include conducting public health assessments at sites on the Environmental Protection Agency's (EPA) National Priorities List (NPL) to determine whether exposure to hazardous substances at these sites are harmful to human health.

The Hanford Nuclear Reservation, located in south central Washington State, is on EPA's National Priorities List. Between 1944 when it opened until its closing in 1972, an estimated 740,000 curies of radioactive Iodine were released to the air from chemical separation facilities used to produce plutonium for atomic weapons development. The Hanford Environmental Dose Reconstruction project (HEDR) estimates that the majority of releases of Iodine-131 occurred between 1944 and 1951. Radioactive Iodine accumulates in the thyroid gland. Studies indicate that exposure to radioactive Iodine is associated with an increased risk of developing thyroid cancers and other thyroid diseases. Children up to five years of age may be at higher risk than the general population of developing cancer after exposure.

The objective of this survey is to collect information on utilization of health care services, knowledge of and information needs related to radioactive Iodine releases from Hanford, health risk and exposure awareness, use of and interest in thyroid medical evaluations, and demographic information. This information will assist ATSDR staff in determining health education needs and planning effective health education activities for people exposed to radioactive Iodine and/or at risk for thyroid disease. This work may have applicability to other sites where exposure to radioactive Iodine has occurred. In previous ATSDR work (OMB No. 0923-0006) approximately 6,000 people were located who were born between 1940 and 1951 in three counties (Benton, Franklin and Adams) nearest the Hanford site. For this proposed project, ATSDR plans to randomly select and complete 500 individual interviews from this cohort of 6,000 persons.

To reduce the amount of time required by the respondents, Computer Assisted Telephone Interviews (CATI) will be conducted. The information collected in this proposed survey will provide reliable baseline information for developing effective educational materials and outreach activities. Other than their time to participate, there are no costs to the respondents. The estimated annualized burden is 125 hours.

Respondents | No. of respondents per year | No. of responses per respondent | Average burden per response (in hours)
Individuals born near Hanford site | 500 | 1 | .125

Dated: September 14, 2000.
Nancy Cheal,
Acting Associate Director for Policy, Planning and Evaluation, Centers for Disease Control and Prevention (CDC).

[FR Doc. 00-24247 Filed 9-20-00; 8:45 am]

BILLING CODE 4163-18-P